DEPARTMENT OF ENERGY

Energy Information Administration

Agency Information Collection Extension

AGENCY: U.S. Energy Information Administration (EIA), Department of Energy (DOE).

ACTION: Agency Information Collection Activities: Information collection extension with changes; notice of request for comments.

SUMMARY: The EIA, pursuant to the Paperwork Reduction Act of 1995, intends to extend for three years with the Office of Management and Budget (OMB), the Petroleum Supply Program (OMB No. 1905-0165). EIA is soliciting comments on the proposed revisions to the following forms: EIA-22M, “Monthly Biodiesel, Biojet, Biokerosene and Renewable Diesel Report,” (previously the EIA-22M, “Biodiesel Production Report”), EIA-800, “Weekly Refinery and Fractionator Report,” EIA-802, “Weekly Product Pipeline Report,” EIA-803, “Weekly Crude Oil Stocks Report,” EIA-804, “Weekly Imports Report,” EIA-805, “Weekly Bulk Terminal and Blender Report,” EIA-809, “Weekly Oxygenate Report,” EIA-810, “Monthly Refinery Report,” EIA-812, “Monthly Product Pipeline Report,” EIA-813, “Monthly Crude Oil Report,” EIA-814, “Monthly Imports Report,” EIA-815, “Monthly Bulk Terminal and Blender Report,” EIA-816, “Monthly Natural Gas Plant Liquids Report,” EIA-817, “Monthly Tanker, Barge and Rail Movement and Stocks in Transit Report” (previously the “Monthly Tanker and Barge Movement Report”), EIA-819, “Monthly Biofuel and Oxygenate Report,” (previously the “Monthly Oxygenate Report” and EIA-820, “Annual Refinery Report.” Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before September 8, 2015. If you anticipate difficulty in submitting comments within that period, contact the person listed in ADDRESSES as soon as possible.

ADDRESSES: Written comments may be sent to Shawna Waugh via email at (shawna.waugh@eia.gov). The mailing address is the Petroleum and Biofuels Statistics, EI-25, Forrestal Building, U.S. Department of Energy, 1000 Independence Ave. SW., Washington, DC 20585. [Note that the receipt of mailed comments is sometimes delayed]

FOR FURTHER INFORMATION CONTACT: Requests for additional information or copies of any forms and instructions should be directed to Shawna Waugh at the address listed above. The proposed forms and changes in definitions and instructions are available on EIA's Web site at: http://www.eia.gov/survey/.

SUPPLEMENTARY INFORMATION: This information collection request contains: (1) OMB No. 1905-0165; (2) Information Collection Request Title: Petroleum Supply Reporting System; (3) Type of Request: Three-year extension; (4) Purpose: The Federal Energy Administration Act of 1974 (15 U.S.C. 761 et seq.) and the DOE Organization Act (42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands and to promote sound policymaking, efficient markets, and public understanding of energy and its interaction with the economy and the environment.

The EIA, as part of its effort to comply with the Paperwork Reduction Act of 1995 (44 U.S.C. 3501, et seq.), provides the general public and other Federal agencies with opportunities to comment on collections of energy information conducted by or in conjunction with the EIA. Also, the EIA will later seek approval for this collection by the Office of Management and Budget (OMB) under Section 3507(a) of the Paperwork Reduction Act of 1995.

The weekly petroleum supply surveys (Forms EIA-800, EIA-802, EIA-803, EIA-804, EIA-805 and EIA-809) are designed to provide an early, initial estimate of weekly petroleum refinery and fractionator operations, inventory levels, and imports of selected petroleum products in a timely manner. The information appears in the publications listed below and is also available electronically on EIA's Web site at http://www.eia.doe.gov/.

Publications: Internet only publications are the Weekly Petroleum Status Report (http://www.eia.gov/petroleum/supply/weekly/), Short-Term Energy Outlook (http://www/forecasts/steo/), and This Week in Petroleum (http://www.eia.gov/petroleum/weekly/).

The monthly petroleum supply surveys (Forms EIA-22M, EIA-810, EIA-812, EIA-813, EIA-814, EIA-815, EIA-816, EIA-817, and EIA-819) are designed to provide statistically reliable and comprehensive monthly information to EIA, other Federal agencies, and the private sector for use in forecasting, policy making, planning, and analysis activities. The information appears in the publications listed below and is also available electronically on EIA's Web site at http://www.eia.doe.gov/.

Publications: Internet only publications are the Petroleum Supply Monthly (http://www.eia.gov/petroleum/supply/monthly/), Company-Level Imports (http://www.eia.gov/petroleum/imports/companylevel/), the Petroleum Supply Annual, Volume 1 (http://www.eia.gov/petroleum/supply/annual/volume1/), the Annual Energy Outlook (http://www.eia.gov/forecasts/aeo/index.cfm); and the Monthly Biodiesel Production Report (http://www.eia.gov/biofuels/biodiesel/production/).

The annual refinery survey (Form EIA-820) provides data on refinery capacities, fuels consumed, natural gas consumed as hydrogen feedstock, and crude oil receipts by method of transportation, for operating and idle petroleum refineries (including new refineries under construction), and refineries shutdown during the previous year. The information appears in the Refinery Capacity Report (http://www.eia.gov/petroleum/refinerycapacity/) and the Refinery Outage Report (http://www.eia.gov/petroleum/refinery/outage/).

Please refer to the proposed forms and instructions for more information about the purpose, who must report, when to report, where to submit, the elements to be reported, detailed instructions, provisions for confidentiality, and uses (including possible nonstatistical uses) of the information. For instructions on obtaining materials, see the “For Further Information Contact” section.

(4a) Proposed Changes to Information Collection: The following changes are proposed to the data elements collected on surveys in the Petroleum Supply Reporting System.

We propose the following changes to the geographical detail collected and published on surveys.

Midwest (Petroleum Administration for Defense District 2): EIA proposes two new subregions for the Midwest, PADD 2. as follows: Subregion PADD 2A will include Minnesota, North Dakota, South Dakota, and Wisconsin and Subregion PADD 2B will include Illinois, Indiana, Iowa, Kansas, Kentucky, Michigan, Missouri, Nebraska, Ohio, Oklahoma, and Tennessee. Given the increased production of crude oil in the proposed new PADD 2A Subregion, there is increasing interest in the flows of crude oil into and out of that area. This change will allow EIA to track movements of crude oil from Subregion PADD 2A to other parts of the Midwest and to also provide more detailed regional data on inventories of propane, a key heating fuel, during winter months. This change applies to Forms EIA-812, EIA-813, and EIA-817.

Puerto Rico and the U.S. Virgin Island (PADD 6): We propose to add PADD 6 because this information is needed to report to the International Energy Agency (IEA). This change applies to Forms EIA-813 and EIA-817.

Texas Gulf Coast Refining District: We propose to collect data on crude oil inventories in tank farms in the Texas Gulf Coast as a subset of total PADD 3 inventories, in a manner comparable to those collected for tank farms in Cushing, Oklahoma. The Texas Gulf Coast is composed of the counties that define the Texas Gulf Coast Refinery District. This area includes the Houston Ship Channel and the Corpus Christi area, both areas where crude oil inventory levels are critical for oil markets. This change applies to Forms EIA-803 and EIA-813.

We propose to revise and rearrange categories for reporting biofuel, distillate fuel oil (by sulfur category), hydrocarbon gas liquids, kerosene-type jet fuel, and motor gasoline on select surveys as indicated below.

Biofuels: We propose to collect data on biofuel products for the following categories (and subcategories): Ethanol (cellulosic and noncellulosic), Butanol, Biodiesel, Biojet and biokerosene (cellulosic and noncellulosic), bionaphtha and biogasoline (cellulosic and noncellulosic), and other (cellulosic and noncellulosic). This change assures continued relevance of the data and improves market coverage by accommodating potential for introduction of new biofuels. This change applies to all the monthly survey forms except Forms EIA-813 and EIA-816.

Distillate Fuel Oil: We propose to reduce from four to three the number of categories of distillate fuel oil, based on sulfur content. We currently collect the following four distillate categories (by sulfur content): (1) Less than 15 parts per million (ppm), (2) 15-500 ppm, (3) 500-2000 ppm, and (4) greater than or equal to 2000 ppm. We plan to merge the latter two categories, 500-2000 ppm, and greater than or equal to 2000 ppm, into a single category—distillates with greater than 500 ppm of sulfur. Federal and State legislation requires more areas to use distillate fuel that contains less than 15 ppm sulfur, also known as Ultra Low Sulfur Diesel (ULSD) Many Northeast states also require that ULSD be used for heating purposes. While there are diminishing volumes of 15-500 ppm distillate fuel produced currently, capturing its production and disposition is important for maintaining data quality control, so we've proposed to continue collecting it even though we intend to publish data for the categories of ULSD and other distillate fuel.

Hydrocarbon Gas Liquids (formerly Natural Gas Plant Liquids (NGPL) and Liquefied Refinery Gases (LRG): We propose to adopt EIA's framework for Hydrocarbon Gas Liquid that was described in the report “Hydrocarbon Gas Liquids (HGL): Recent Market Trends and Issues,” released November, 2014, and available at http://www.eia.gov/analysis/hgl. We have rearranged the existing categories to include the following categories (and sub-categories): Ethane/Ethylene (Ethane by sources (Gas Plant and Refinery) and Ethylene); Propane/Propylene (Propane by source (Gas Plant and Refinery)) and Propylene); Normal Butane/Butylene (Normal Butane by sources (Gas Plant and Refinery (Refinery Grade and excluding Refinery Grade)) and Butylene); Isobutane/Isobutylene (Isobutane by sources (Gas Plant and Refinery) and Isobutylene; Natural Gasoline (previously Pentanes Plus). We also propose to add categories for Plant Condensate and Consumer and Export-Grade Propane. The primary reason for this rearrangement of categories and subcategories is to use the same categories to collect data consistently across all EIA surveys. This change applies to all of the survey forms except for Forms EIA-22M, 803, 809, and 813.

Kerosene-type Jet Fuel: We propose to discontinue breaking out the end use categories of commercial and military and only collect total kerosene jet-fuel as a single category. Military jet fuel represents less than three percent (3%) of all jet fuel produced in 2014. We expect sales for military use to continue to decline further as a result of the military's decision to allow military aircraft to use commercial grade jet fuel. We do not foresee any impact on analytical capabilities as a result of this change. This change applies only to Forms EIA-800 and EIA-810.

Motor Gasoline: We propose to reduce the number of motor gasoline categories from nine to five. We propose to collect the following data on motor gasoline and blending components: Motor gasoline blended with less than 51 volume percent ethanol (<E51), motor gasoline blended with 51 volume percent ethanol or more (≥E51), motor gasoline not blended with ethanol, motor gasoline blending components, and reformulated blendstock for oxygenate blending (RBOB). Currently, the gasoline categories are based upon reformulated and conventional gasoline. The new categories EIA proposes are based on gasoline with ethanol and gasoline without ethanol. We expect this change will support and improve the utility of the information needed for important analytical and policy issues relating to gasoline markets at this time and in the future. This change applies to all of the survey forms except for Forms EIA-22M, 803, 809, and 813.

Pipeline and Tank Farm activities: We propose to collect data separately for pipelines and tank farms. These changes apply to the following Forms: EIA-803 and EIA-813.

Storage Capacity: We propose to discontinue storage capacity on Forms EIA-812 and EIA-819. We currently collect storage capacity twice a year (as of March 31 and September 30). Collecting storage capacity of product pipelines and ethanol plants did not provide useful information for assessing available petroleum supplies. Product pipeline inventories are used for operational purposes, not commercial purposes. Stocks held at fuel ethanol plants also are primarily for operational rather than commercial purposes. EIA will still collect storage capacity data for petroleum products held at terminals and refineries. Discontinuing the collection of storage capacity on Forms EIA-812 and EIA-819 will eliminate confusion in analyzing storage capacity utilization and improve data quality. Storage Capacity in Operation: We propose to discontinue reporting storage capacity by the subcategories for exclusive use and leased to others on Forms EIA-813 and EIA-815. This data is no longer needed for analysis purposes.

Stocks in Transit: We propose to discontinue collecting stocks in transit by tanker, barge and rail on Forms EIA-800, 802, 803, 805, 809, 810, 812, 813, 815, 816, and 819. EIA proposes to collect the stocks in transit data at the corporate level on the EIA-817. Collecting this stock information on one form reduces respondent burden and will improve data quality.

Unit of Measurement: We propose to collect data in actual barrels rather than thousand barrels. For some of our data collection we are missing small volumes from respondents because they are reporting in thousands of barrels. These missing volumes may not add up to a large volume, but data for some small-volume products, such as certain biofuels and fuels blended with biofuels, are important for assessment of important policy decisions. For example, if a respondent produces less than 500 barrels of E85, they would report that production as zero (0) when using current thousand barrels reporting units. Under this proposal, they would report the actual volume they produced. Rather than collecting information by two different units of measurement using barrels, EIA proposes to apply this change consistently across all of the surveys except for the EIA-22M which collects data in gallons.

We propose to make the following survey-specific changes to forms in this program.

We propose to change the scope and title of the EIA-22M, “Monthly Biodiesel Production Report” to the EIA-22M, “Biodiesel, Biojet, Biokerosene and Renewable Diesel Report.” We are expanding the survey to collect data on renewable fuels in addition to biodiesel as growth is anticipated in the renewable fuels industry in the future.

We propose to eliminate parts 3D “Sales of B100 and blended biodiesel” and 3E “End use sales of biodiesel” from the current Form EIA-22M. Data from these sections of the survey form were found not to be useful for analysis of available biodiesel supplies.

We propose to expand part 2A of the existing Form EIA-22M to include capacities of renewable diesel fuel plants in addition to biodiesel producers. We also propose to expand part 3A of the existing Form EIA-22M to account for production and blending of noncellulosic biofuels (biojet, biokerosene, renewable diesel fuel, and other) and cellulosic biofuels (cellulosic distillate fuel, cellulosic biojet and biokerosene, and other). Information on production and blending are relevant to understand activities of the renewable and biofuel industries.

We propose to collect Input and Production of Unfinished Oils instead of Total Input” on Part 3: Refinery and Fractionator Activity on Form EIA-800, “Weekly Refinery and Fractionator Report.” We are trying to collect more relevant data for data users on refinery activities.

We propose to discontinue collecting data on volumes of Ultra-Low Sulfur Diesel Fuel (15 ppm and under) downgraded during the report week on Part 4: Diesel Fuel Downgrade on Form EIA-802, “Weekly Product Pipeline Report.” This data is no longer relevant.

We propose to change the list of countries in Part 4: Total U.S. Crude Oil Imports by Country of Origin and to adopt the U.S. Census Bureau's country codes on Form EIA-804, “Weekly Imports Report.” We propose to allow companies to report imports from 31 countries from which the U.S. imported the most crude oil during 2015, and for Iran. Crude oil imports from any other countries are reported in the “Other” country category. We anticipate this change will enhance information quality.

We propose to collect ethanol and to discontinue collecting denatured and undenatured ethanol separately on Form EIA-809, “Weekly Oxygenate Report.”

We propose to discontinue collecting lease inventories on Form EIA-813, “Monthly Crude Oil Report.” Lease inventories are inventories stored at crude oil production sites. The purpose of stocks held on oil and gas producing leases (lease stocks) is to facilitate oil and gas production operations. Lease stocks are typically held only long enough for oil to be picked up by trucks or otherwise removed from production sites. While the total number of barrels held as lease stocks is significant, the barrels are widely dispersed at producing sites with only small quantities at any given location. For these reasons, we have determined that continued tracking of lease stocks on EIA surveys has limited value for assessment of crude oil supplies available to markets. In addition, our research has shown that some or all of the barrels included as lease stocks are actually outside of the U.S. and regional crude oil balances developed by EIA because barrels may be recorded as crude oil production, which is the first supply component of our balance, only after the barrels are withdrawn from lease stocks. EIA will create and publish historical data series of crude oil stocks excluding lease stocks in order to meet analyst requirements for crude oil inventory data that are consistent over time.

We propose to continue to collect data on API gravity, sulfur content, processing plant name and location of crude oil and to continue to collect data on sulfur categories for distillate fuels. However, we will discontinue collecting data for the processing plants name and location of unfinished oils and motor gasoline blending components on Form EIA-814, “Monthly Imports Report.” We have determined that the data proposed for elimination on Form EIA-814 have limited value and the respondent burden for reporting was not justified.

No additional changes proposed for Form EIA-815, “Monthly Terminal Blenders Report.”

We propose to add plant condensate to Part 2 of Form EIA-816, “Monthly Natural Gas Liquids Report.” In addition, we are asking in Part 2 for the volume blended into crude oil. The quantity of plant condensate blended into crude oil is important as a way to balance crude oil supply and disposition and thereby reduce the crude oil adjustment (unaccounted-for crude oil) quantity.

We propose to change the title of Form EIA-817, “Monthly Tanker and Barge Movements Report” to EIA-817, Monthly Tanker, Barge, and Rail Movements and Stocks in Transit Report.” We intend to collect rail movements and stocks in transit for all Petroleum Administration for Defense Districts (PADDs) and select sub-PADDs on this survey. Rail movements of crude oil and petroleum products have increased in recent years due to changes in the regional distribution of crude oil, petroleum product, and biofuel supplies. Based on cognitive interviews with companies that report on Form EIA-817, respondents indicated that reporting stocks in transit on a company basis reduces respondent burden and improves data quality.

We propose to change the title of Form EIA-819 “Monthly Oxygenate Report” to EIA-819 “Monthly Biofuel and Oxygenate Report”. We also plan to reorganize the Form EIA-819 to clarify reporting requirements. The new Form EIA-819 will have separate sections for reporting biofuel production, non-biofuel oxygenate production, and blending activity involving biofuels, petroleum products, and hydrocarbon gas liquids. In addition, product details will be added to identify products as non-cellulosic biofuels (ethanol, butanol, bionaphtha and biogasoline, and other) and cellulosic biofuels (cellulosic ethanol, cellulosic naphtha and gasoline, and other). Currently EIA collects petroleum refinery fuel consumption data, but not renewable fuel plant consumption data. Collecting this data will allow analysts and modelers to gauge trends in energy efficiency at ethanol and biodiesel plants as they do now with data collected from petroleum refineries.

Gasoline products included in Part 6 “Blending Activity including Addition of Denaturants” will be updated with new gasoline products described earlier. We also propose to add normal butane and isobutane in addition to natural gasoline (formerly pentanes plus) to Part 6. We are also expanding the coverage from the 50 states and the District of Columbia, to the 50 states, the District of Columbia and the Virgin Islands and Puerto Rico.

In addition to clarifying reporting requirements by separating activities into separate sections of the form, the addition of new products will position EIA to provide data on new biofuel products that may become important sources of U.S. fuel supplies.

We propose to redesign the layout of Part 1 and 2 of the forms due to the new electronic modes of data collection. Most of this information will be prepopulated and we will use skip patterns to request respondents provide updates as needed. We are doing this to reduce respondent burden. This change applies to all of the surveys.

Please refer to the proposed forms and instructions for more information about the purpose of the survey, who must submit, when to submit, provision for confidentiality, elements to be reported, and uses (including nonstatistical uses) of the information. These materials are available on EIA's Web site at http://www.eia.gov/survey/.

(5) Annual Estimated Number of Respondents: 4,503.

(6) Annual Estimated Number of Total Responses: 102,656.

(7) Annual Estimated Number of Burden Hours: 198,321.

(8) Annual Estimated Reporting and Recordkeeping Cost Burden: EIA estimates that there are no additional costs to respondents associated with the surveys other than the costs associated with the burden hours. The information is maintained in the normal course of business. The cost of burden hours to the respondents is estimated to be $14,273,162 (198,321 burden hours times $71.97 per hour), which represents a reduction of 15,241 burden hours from the prior renewal of this collection in 2013. Therefore, other than the cost of burden hours, EIA estimates that there are no additional costs for generating, maintaining and providing the information.

Statutory Authority: Section 13(b) of the Federal Energy Administration Act of 1974, P.L. 93-275, codified at 15 U.S.C. 772(b).

Issued in Washington, DC, July 2, 2015.
Nanda Srinivasan,
Director, Survey Development and Statistics Integration, U.S. Energy Information Administration.

[FR Doc. 2015-16783 Filed 7-8-15; 8:45 am]

BILLING CODE 6450-01-P